DEPARTMENT OF HOUSING AND URBAN DEVELOPMENT

[Docket No. FR-5885-N-05]

Final Fair Market Rents for the Housing Choice Voucher Program and Moderate Rehabilitation Single Room Occupancy Program Fiscal Year 2016; Revised

AGENCY: Office of the Assistant Secretary for Policy Development and Research, HUD.

ACTION: Notice of Final Fiscal Year (FY) 2016 Fair Market Rents (FMRs), update.

SUMMARY: Today's notice updates the FY 2016 FMRs for Burlington-South Burlington, VT Metropolitan Statistical Area (MSA), based on a survey of rents conducted in February, 2016, by the area public housing agencies (PHAs). The FY 2016 FMRs for these areas reflect the estimated 40th percentile rent levels trended to April 1, 2016.

DATES: Effective Date: The FMRs published in this notice are effective on May 3, 2016.

FOR FURTHER INFORMATION CONTACT: For technical information on the methodology used to develop FMRs or a listing of all FMRs, please call the HUD USER information line at 800-245-2691 or access the information on the HUD USER Web site: http://www.huduser.gov/portal/datasets/fmr.html. FMRs are listed at the 40th or 50th percentile in Schedule B. For informational purposes, 40th percentile recent-mover rents for the areas with 50th percentile FMRs will be provided in the HUD FY 2016 FMR documentation system at http://www.huduser.gov/portal/datasets/fmr/fmrs/docsys.html?data=fmr16 and 50th percentile rents for all FMR areas are published http://www.huduser.gov/portal/datasets/50per.html.

Questions related to use of FMRs or voucher payment standards should be directed to the respective local HUD program staff. Questions on how to conduct FMR surveys or concerning further methodological explanations may be addressed to Marie L. Lihn or Peter B. Kahn, Economic and Market Analysis Division, Office of Economic Affairs, Office of Policy Development and Research, telephone 202-402-2409. Persons with hearing or speech impairments may access this number through TTY by calling the toll-free Federal Relay Service at 800-877-8339. (Other than the HUD USER information line and TDD numbers, telephone numbers are not toll-free.)

SUPPLEMENTARY INFORMATION: The FMRs appearing in the following table supersede the values found in Schedule B that became effective on December 11, 2015, and were printed in the December 11, 2015 (80 FR 77124) Federal Register (available from HUD at: http://www.huduser.gov/portal/datasets/fmr.html).

The FMRs for the affected area are revised as follows:

2016 Fair market rent area | FMR by number of bedrooms in unit: 0 BR | FMR by number of bedrooms in unit: 1 BR | FMR by number of bedrooms in unit: 2 BR | FMR by number of bedrooms in unit: 3 BR | FMR by number of bedrooms in unit: 4 BR
Burlington-South Burlington, VT MSA | 868 | 1038 | 1356 | 1796 | 1988

Dated: April 19, 2016.
Katherine M. O'Regan,
Assistant Secretary for Policy Development & Research.

[FR Doc. 2016-10333 Filed 5-2-16; 8:45 am]

BILLING CODE 4210-67-P